DEPARTMENT OF AGRICULTURE

Forest Service

North Rich Allotment Management Plan, Wasatch-Cache National Forest, Logan Ranger District, Cache and Rich Counties, Utah

AGENCY: Forest Service, USDA.

ACTION: Notice of Intent to prepare an Environmental Impact Statement (EIS).

SUMMARY: The Logan Ranger District, of the Wasatch-Cache National Forest, will prepare an EIS on a proposal to authorize grazing on the North Rich Allotment at a level and in a manner consistent with direction set forth in the Forest Plan, the Rangeland Health EIS, and other applicable laws.

DATES: Comments concerning the scope of the analysis should be received in writing by March 10, 2000.

ADDRESSES: Send written comments to Brian Ferebee, District Ranger, 1500 East Highway 89, Logan, Utah 84321.

FOR FURTHER INFORMATION CONTACT: Evelyn Sibbernsen, Environmental Coordinator, Logan Ranger District, (435) 755-3620.

SUPPLEMENTARY INFORMATION: The Logan Ranger District proposes to authorize grazing on the North Rich Allotment at a level and in a manner consistent with direction set forth in the Forest Plan, the Wasatch-Cache Rangeland Health EIS, and other applicable laws and guidelines. In conjunction, the District proposes to revise the Allotment Management Plan (AMP) and adjust the resource management of lands within the North Rich Allotment to reflect information developed since the Forest Plan (approved in 1985) and to improve resource conditions as needed in several areas.

In an effort to continue moving present rangeland conditions toward desired conditions, select improvement and restoration projects are being proposed. Livestock grazing would be managed under a rotation system, to provide for the longterm health and sustainability of rangeland and riparian ecosystems.

Environmental analysis on the proposal began in the fall of 1998. Preliminary analysis indicated an Environmental Impact Statement would not be required. A scoping letter was mailed to more than 70 individuals, organizations, and local and state government agencies in January, 1999. An open house was held in January and a field trip was held in July, 1999. Data collection and analysis continued through the fall of 1999. In January of 2000, the responsible official and the Forest Service interdisciplinary team decided that an Environmental Impact Statement should be prepared because there may be significant environmental effects associated with the proposal.

Preliminary issues identified by the interdisciplinary team include the effects of grazing on riparian conditions, watershed health, threatened, endangered, and sensitive species, and the effects on dispersed recreation in the area.

A range of alternatives for the allotment will be considered. One of these, no action from the current situation, will be to authorize grazing under the current regime (number and type of livestock, grazing system, and maintenance of improvements). Another alternative will consider no grazing on this allotment (current permits would be terminated as they expire). Other alternatives will consider grazing under other combinations of number and type of livestock, grazing systems (including a rotation system), season and timing of use, and associated improvements, mitigation, and monitoring.

A decision will be made on whether or not to continue authorizing grazing on the North Rich Allotment, and if so, under what management system and with what improvements. If the decision is made to continue authorizing grazing, term grazing permits, issued by the Logan Ranger District, would authorize this use.

The public is invited to submit comments or suggestions at the address above. Comments from the January 1999 scoping will be incorporated into the analysis and need not be resubmitted. The responsible official is Brian Ferebee, District Ranger. A Draft EIS is expected to be filed in April of 2000 and the final EIS is scheduled to be filed in September of 2000.

The comment period on the draft EIS will be 45 days from the date the Environmental Protection Agency's notice of availability appears in the Federal Register. It is very important that those interested in this proposed action participate during that time. To be most helpful, comments on the draft EIS should be as specific as possible and may address the adequacy of the statement or the merits of the alternatives discussed (see The Council on Environmental Quality Regulations for implementing the procedural provisions of the National Environmental Policy Act at 40 CFR 1503.3).

In addition, Federal court decisions have established that the reviewers of the draft EIS must structure their participation in the environmental review of the proposal so that it is meaningful and alerts an agency to the reviewer's position and contentions. Vermont Yankee Nuclear Power Corp. v. NRDC, 435 U.S. 519, 553 (1978). Environmental objections that could have been raised at the draft stage may be waived if not raised until after completion of the final EIS. City of Angoon v. Hodel, (9th Circuit, 1986), and Wisconsin Heritages, Inc. v. Harris, 490 F. Supp. 1334, 1338 (E.D. Wis. 1980). The reason for this is to ensure that substantive comments and objections are made available to the Forest Service at a time when it can meaningfully consider them and respond to them in the final EIS.

Dated: January 28, 2000.
Brian Ferebee,
District Ranger.

[FR Doc. 00-3100 Filed 2-9-00; 8:45 am]

BILLING CODE 3410-11-M